Presidential Determination No. 2007-10 of December 29, 2006

Eligibility of Vietnam To Receive Defense Articles and Defense Services Under the Foreign Assistance Act of 1961 and the Arms Export Control Act

Memorandum for the Secretary of State

Pursuant to the authority vested in me by the Constitution and laws of the United States, including section 503(a) of the Foreign Assistance Act of 1961, as amended, and section 3(a) (1) of the Arms Export Control Act, as amended, I hereby find that the furnishing of defense articles and defense services to Vietnam will strengthen the security of the United States and promote world peace.

You are authorized and directed to report this finding to the Congress and to publish it in the Federal Register.

THE WHITE HOUSE,

Washington, December 29, 2006.

[FR Doc. 07-135

Filed 1-12-07; 8:45 am]

Billing code 4710-10-P